DEPARTMENT OF VETERANS AFFAIRS

National Research Advisory Council; Notice of Meeting

The Department of Veterans Affairs (VA) gives notice under Public Law 92-463 (Federal Advisory Committee Act) that the National Research Advisory Council will hold a meeting on Tuesday, September 21, 2010, at the Phoenix Park Hotel, Federal City Room, 520 North Capitol Street, NW., Washington, DC. The meeting will convene at 9:30 a.m. and end at 4 p.m. The meeting is open to the public. The purpose of the Council is to provide external advice and review for VA's research mission.

The agenda will include a review of the VA research portfolio and a scientific presentation by a VA researcher. The Council will also provide feedback on the direction/focus of VA's research initiatives.

Any member of the public wishing to attend the meeting or wishing further information should contact Margaret Hannon, Designated Federal Officer, at (202) 461-1696. Oral comments from the public will be allowed from 2:45 p.m. to 4 p.m. Comments will be limited to 5 minutes per person. Written statements or comments should be transmitted electronically to Margaret.Hannon@va.gov or mailed to Margaret Hannon at Department of Veterans Affairs, Office of Research and Development (12), 810 Vermont Avenue, NW., Washington, DC 20420.

Date: September 7, 2010.
By Direction of the Secretary.
Vivian Drake,
Acting Committee Management Officer.

[FR Doc. 2010-22675 Filed 9-10-10; 8:45 am]

BILLING CODE P